DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs also are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of news- paper where notice was published | Chief executive officer of community | Effective date of modification | Community No.
Alabama:
Calhoun (FEMA Docket No: B-1052) | City of Anniston (09-04-1158P) | April 6, 2009; April 13, 2009; The Anniston Star | The Honorable Gene D. Robinson, Mayor, City of Anniston, P.O. Box 2168, Anniston, AL 36202 | August 11, 2009 | 010020
Tuscaloosa (FEMA Docket No: B-1052) | City of Tuscaloosa (08-04-6875P) | April 13, 2009; April 20, 2009; The Tuscaloosa News | The Honorable Walter Maddox, Mayor, City of Tuscaloosa, P.O. Box 2089, Tuscaloosa, AL 35403 | August 18, 2009 | 010203
Tuscaloosa (FEMA Docket No: B-1052) | Unincorporated areas of Tuscaloosa County (08-04-6875P) | April 13, 2009; April 20, 2009; The Tuscaloosa News | The Honorable W. Hardy McCollum, Tuscaloosa County Probate Judge, 714 Greensborough Avenue, Tuscaloosa, AL 35401 | August 18, 2009 | 010201
Arizona:
Maricopa (FEMA Docket No: B-1052) | Town of Cave Creek (09-09-0431P) | April 8, 2009; April 15, 2009; Sonoran News | The Honorable Vincent Francia, Mayor, Town of Cave Creek, 37622 North Cave Creek Road, Cave Creek, AZ 85331 | July 14, 2009 | 040129
Maricopa (FEMA Docket No: B-1052) | Town of Cave Creek (09-09-0432P) | April 8, 2009; April 15, 2009; Sonoran News | The Honorable Vincent Francia, Mayor, Town of Cave Creek, 37622 North Cave Creek Road, Cave Creek, AZ 85331 | August 13, 2009 | 040129
Maricopa (FEMA Docket No: B-1055) | Town of Gilbert (08-09-1488P) | April 23, 2009; April 30, 2009; Arizona Business Gazette | The Honorable Steven M. Berman, Mayor, Town of Gilbert, 50 East Civic Center Drive, Gilbert, AZ 85296 | April 8, 2009 | 040044
Maricopa (FEMA Docket No: B-1055) | Unincorporated areas of Maricopa County (08-09-1488P) | April 23, 2009; April 30, 2009; Arizona Business Gazette | The Honorable Andrew W. Kunasek, Chairman, Maricopa County Board of Supervisors, 301 West Jefferson Street, 10th Floor, Phoenix, AZ 85003 | April 8, 2009 | 040037
Maricopa (FEMA Docket No: B-1055) | Town of Queen Creek (08-09-1488P) | April 23, 2009; April 30, 2009; Arizona Business Gazette | The Honorable Art Sanders, Mayor, Town of Queen Creek, 22350 South Ellsworth Road, Queen Creek, AZ 85242 | April 8, 2009 | 040132
Yavapai (FEMA Docket No: B-1048) | City of Cottonwood (08-09-1293P) | March 13, 2009; March 20, 2009; Prescott Daily Courier | The Honorable Diane Joens, Mayor, City of Cottonwood, 827 North Main Street, Cottonwood, AZ 86326 | July 20, 2009 | 040096
Arkansas: Benton (FEMA Docket No: B-1052) | City of Rogers (08-06-1043P) | March 31, 2009; April 7, 2009; The Morning News | The Honorable Steve Womack, Mayor, City of Rogers, 301 West Chestnut Street, Rogers, AR 72756 | August 5, 2009 | 050013
California:
Orange (FEMA Docket No: B-1052) | City of Huntington Beach (08-09-1428P) | April 9, 2009; April 16, 2009; Huntington Beach Independent | The Honorable Keith Bohr, Mayor, City of Huntington Beach, 2000 Main Street, Huntington Beach, CA 92648 | March 30, 2009 | 065034
San Diego (FEMA Docket No: B-1052) | City of Escondido (08-09-1101P) | April 3, 2009; April 10, 2009; North County Times | The Honorable Ron Roberts, Chairman, San Diego County Board of Supervisors, County of San Diego, Administration Center, 1600 Pacific Highway, Room 335, San Diego, CA 92101 | August 10, 2009 | 060290
San Diego (FEMA Docket No: B-1052) | City of San Diego (09-09-0601P) | April 9, 2009; April 16, 2009; San Diego Transcript | The Honorable Jerry Sanders, Mayor, City of San Diego, 202 C Street, 11th Floor, San Diego, CA 92101 | August 14, 2009 | 060295
San Diego (FEMA Docket No: B-1052) | Unincorporated areas of San Diego County (09-09-0601P) | April 9, 2009; April 16, 2009; San Diego Transcript | The Honorable Dianne Jacob, Chairwoman, San Diego County Board of Supervisors, 1600 Pacific Highway, Room 335, San Diego, CA 92101 | August 14, 2009 | 060284
Santa Barbara (FEMA Docket No: B-1059) | City of Carpinteria (08-09-1482P) | April 27, 2009; May 4, 2009; Santa Barbara News Press | The Honorable Gregg Carty, Mayor, City of Carpinteria, 5775 Carpinteria Avenue, Carpinteria, CA 93013 | May 15, 2009 | 060332
Santa Barbara (FEMA Docket No: B-1059) | Unincorporated areas of Santa Barbara County (08-09-1482P) | April 27, 2009; May 4, 2009; Santa Barbara News Press | The Honorable Salud Carbajal, Chairman, Santa Barbara County Board of Supervisors, 105 East Anapamu Street, Santa Barbara, CA 93101 | May 15, 2009 | 060331
Colorado:
Boulder (FEMA Docket No: B-1048) | City of Longmont (08-08-0011P) | March 12, 2009; March 19, 2009; Longmont Times-Call | The Honorable Roger Lange, Mayor, City of Longmont, 350 Kimbark Street, Longmont, CO 80501 | July 17, 2009 | 080027
El Paso (FEMA Docket No: B-1048) | Unincorporated areas of El Paso County (08-08-0541P) | March 18, 2009; March 25, 2009; El Paso County Advertiser | The Honorable Dennis Hisey, Chairman, El Paso County Board of Commissioners, 27 East Vermijo Avenue, Colorado Springs, CO 80903 | July 23, 2009 | 080059
Jefferson (FEMA Docket No: B-1048) | City of Westminster (09-08-0055P) | March 12, 2009; March 19, 2009; Westminster Window | The Honorable Nancy McNally, Mayor, City of Westminster, 4800 West 92nd Avenue, Westminster, CO 80031 | July 17, 2009 | 080008
Florida:
Lee (FEMA Docket No: B-1052) | Unincorporated areas of Lee County (09-04-1718P) | April 1, 2009; April 8, 2009; Fort Myers News Press | The Honorable Ray Judah, Chairman, Lee County Board of Commissioners, P.O. Box 398, Fort Myers, FL 33902 | March 19, 2009 | 125124
Polk (FEMA Docket No: B-1055) | Unincorporated areas of Polk County (09-04-1385P) | April 8, 2009; April 15, 2009; The Polk County Democrat | The Honorable Sam Johnson, Chairman, Polk County Board of Commissioners, P.O. Box 9005, Drawer BC01, Bartow, FL 33831 | August 13, 2009 | 120261
Sumter (FEMA Docket No: B-1052) | City of Wildwood (08-04-1977P) | April 9, 2009; April 16, 2009; Sumter County Times | The Honorable Ed Wolf, Mayor, City of Wildwood, 100 North Main Street, Wildwood, FL 34785 | March 30, 2009 | 120299
Georgia:
Barrow (FEMA Docket No: B-1048) | Unincorporated areas of Barrow County (07-04-5359P) | March 25, 2009; April 1, 2009; Barrow County News | The Honorable Daniel Yearwood Jr., Chairman, Barrow County Board of Commissioners, 233 East Broad Street, Winder, GA 30680 | July 30, 2009 | 13049
Columbia (FEMA Docket No: B-1048) | Unincorporated areas of Columbia County (08-04-3574P) | March 15, 2009; March 22, 2009; Columbia County News-Times | The Honorable Ron C. Cross, Chairman, Columbia County Board of Commissioners, P.O. Box 498, Evans, GA 30809 | July 20, 2009 | 130059
Henry (FEMA Docket No: B-1046) | Unincorporated areas of Henry County (08-04-5164P) | March 13, 2009; March 20, 2009; Daily Herald | The Honorable Elizabeth “BJ” Mathis, Chairperson, Henry County Board of Commissioners, 140 Henry Parkway, McDonough, GA 30253 | July 20, 2009 | 130468
Hawaii:
Hawaii (FEMA Docket No: B-1052) | Unincorporated areas of Hawaii County (08-09-0823P) | April 6, 2009; April 13, 2009; Hawaii Tribune-Herald | The Honorable William Kenoi, Mayor, Hawaii County, 25 Aupuni Street, Hilo, HI 96720 | August 11, 2009 | 155166
Hawaii (FEMA Docket No: B-1048) | Unincorporated areas of Hawaii County (08-09-1568P) | March 12, 2009; March 19, 2009; Hawaii Tribune-Herald | The Honorable William P. Kenoi, Mayor, Hawaii County, 25 Aupuni Street, Hilo, HI 96720 | July 17, 2009 | 155166
Idaho: Blaine (FEMA Docket No: B-1055) | Unincorporated areas of Blaine County (09-10-0307P) | April 22, 2009; April 29, 2009; Idaho Mountain Express | The Honorable Tom Bowman, Chairman, Blaine County Board of Commissioners, 206 1st Street South, Suite 300, Hailey, ID 83333 | April 14, 2009 | 165167
Illinois:
DuPage (FEMA Docket No: B-1052) | Unincorporated areas of DuPage County (09-05-0307P) | April 1, 2009; April 8, 2009; Daily Herald | The Honorable Robert J. Schillerstorm, Chairman, DuPage County Board, 421 North County Farm Road, Wheaton, IL 60187 | March 18, 2009 | 170197
McHenry (FEMA Docket No: B-1048) | Village of Algonquin (08-05-3751P) | March 20, 2009; March 27, 2009; Northwest Herald | The Honorable John Schmitt, President, Village of Algonquin, 2200 Harnish Drive, Algonquin, IL 60102 | July 27, 2009 | 170474
Iowa:
Crawford (FEMA Docket No: B-1055) | City of Denison (08-07-1528P) | April 10, 2009; April 17, 2009; Denison Bulletin & Review | The Honorable Nathan Mahrt, Mayor, City of Denison, P.O. Box 668, Denison, IA 51442 | August 17, 2009 | 190096
Polk (FEMA Docket No: B-1055) | City of Ankeny (08-07-1252P) | April 22, 2009; April 29, 2009; Des Moines Register | The Honorable Steve Van Oort, Mayor, City of Ankeny, 410 West 1st Street, Ankeny, IA 50023 | April 13, 2009 | 190226
Mississippi:
Rankin (FEMA Docket No: B-1052) | City of Brandon (08-04-5371P) | April 8, 2009; April 15, 2009; Rankin County News | The Honorable Carlo Martella, Mayor, City of Brandon, P.O. Box 1539, Brandon, MS 39043 | August 13, 2009 | 280143
Rankin (FEMA Docket No: B-1052) | Unincorporated areas of Rankin County (08-04-5371P) | April 8, 2009; April 15, 2009; Rankin County News | The Honorable Richard Wilson, Prosecutor, Rankin County, 211 East Government Street, Brandon, MS 39042 | August 13, 2009 | 280142
Missouri:
St. Charles (FEMA Docket No: B-1048) | City of St. Peters (08-07-1439P) | March 13, 2009; March 20, 2009; St. Louis Post Dispatch | The Honorable Len Pagano, Mayor, City of St. Peters, One St. Peters Centre Boulevard, St. Peters, MO 63376 | July 20, 2009 | 290319
St. Charles (FEMA Docket No: B-1059) | City of St. Peters (09-07-0566P) | April 29, 2009; May 6, 2009; St. Louis Post Dispatch | The Honorable Len Pagano, Mayor, City of St. Peters, One St. Peters Centre Boulevard, St. Peters, MO 63376 | April 21, 2009 | 290319
Montana: Flathead (FEMA Docket No: B-1055) | Unincorporated areas of Flathead County (08-08-0361P) | May 1, 2009; May 8, 2009; Daily Inter Lake | The Honorable Dale W. Lauman, Chairman, Flathead County Board of Commissioners, 800 South Main Street, Kalispell, MT 59901 | April 21, 2009 | 800023
Nebraska: Sarpy (FEMA Docket No: B-1052) | City of Papillion (08-07-1022P) | April 2, 2009; April 9, 2009; Papillion Times | The Honorable James E. Blinn, Mayor, City of Papillion, 122 East 3rd Street, Papillion, NE 68046 | August 7, 2009 | 315275
Nevada: Douglas (FEMA Docket No: B-1052) | Unincorporated areas of Douglas County (09-09-0026P) | April 10, 2009; April 17, 2009; The Record-Courier | Nancy McDermid, Chair, Douglas County Board of Commissioners, P.O. Box 218, Minden, NV 89423 | August 17, 2009 | 320008
New Mexico: Chaves (FEMA Docket No: B-1059) | City of Roswell (09-06-0188P) | May 1, 2009; May 8, 2009; Roswell Daily Record | The Honorable Sam D. LaGrone, Mayor, City of Roswell, 425 North Richardson Avenue, Roswell, NM 88201 | April 21, 2009 | 350006
North Carolina:
Orange (FEMA Docket No: B-1055) | Town of Chapel Hill (09-04-1756P) | March 26, 2009; April 2, 2009; Chapel Hill Herald | The Honorable Kevin C. Foy, Mayor, Town of Chapel Hill, 405 Martin Luther King Jr. Boulevard, Chapel Hill, NC 27514 | July 31, 2009 | 370180
Wake (FEMA Docket No: B-1055) | Town of Holly Springs (08-04-5834P) | March 13, 2009; March 20, 2009; The News & Observer | The Honorable Dick Sears, Mayor, Town of Holly Springs, P.O. Box 8, Holly Springs, NC 27540 | July 17, 2009 | 370403
Wake (FEMA Docket No: B-1055) | Unincorporated areas of Wake County (08-04-5834P) | March 13, 2009; March 20, 2009; The News & Observer | Mr. David C. Cooke, Manager, Wake County, P.O. Box 550, Suite 1100, Raleigh, NC 27602 | July 17, 2009 | 370368
Oregon: Lane (FEMA Docket No: B-1048) | Unincorporated areas of Lane County (08-10-0649P) | March 20, 2009; March 27, 2009; The Register-Guard | The Honorable Faye Stewart II, Chairman, Lane County Board of Commissioners, Lane County Public Service Building, 125 East 8th Street, Eugene, OR 97401 | July 27, 2009 | 415591
Pennsylvania:
Chester (FEMA Docket No: B-1052) | Township of West Whiteland (09-03-0246P) | April 8, 2009; April 15, 2009; Daily Local News | The Honorable Diane Snyder, Chairman, West Whiteland Board of Supervisors, 222 North Pottstown, Pike Exton, PA 19341 | April 27, 2009 | 420295
Greene (FEMA Docket No: B-1052) | Township of Franklin (09-03-0260P) | April 10, 2009; April 17, 2009; Observer Reporter | The Honorable T. Reed Kiger, Chairman, Township of Franklin, 568 Rolling Meadows Road, Waynesburg, PA 15370 | August 17, 2009 | 422595
South Carolina:
Charleston (FEMA Docket No: B-1052) | City of Charleston (09-04-1604P) | April 9, 2009; April 16, 2009; The Post and Courier | The Honorable Joseph P. Riley, Jr., Mayor, City of Charleston, P.O. Box 652, Charleston, SC 29402 | August 14, 2009 | 455412
Charleston (FEMA Docket No: B-1052) | City of Charleston (09-04-1605P) | April 9, 2009; April 16, 2009; The Post and Courier | The Honorable Joseph P. Riley, Jr., Mayor, City of Charleston, P.O. Box 652, Charleston, SC 29402 | August 14, 2009 | 455412
South Dakota: Lawrence (FEMA Docket No: B-1059) | City of Spearfish (09-08-0035P) | May 1, 2009; May 8, 2009; Black Hills Pioneer | The Honorable Jerry Krambeck, Mayor, City of Spearfish, 233 Vermont Street, Spearfish, SD 57783 | April 23, 2009 | 460046
Tennessee: Wilson (FEMA Docket No: B-1052) | Unincorporated areas of Wilson County (09-04-0257P) | April 10, 2009; April 17, 2009; The Wilson Post | The Honorable Robert Dedman, County Mayor, Wilson County, 228 East Main Street, Lebanon, TN 37087 | August 17, 2009 | 470207
Texas:
Bell (FEMA Docket No: B-1052) | City of Temple (08-06-1223P) | March 9, 2009; March 16, 2009; Temple Daily Telegram | The Honorable Bill Jones III, Mayor, City of Temple, Two North Main Street, Temple, TX 76501 | July 14, 2009 | 480034
Bexar (FEMA Docket No: B-1052) | Unincorporated areas of Bexar County (08-06-1717P) | March 9, 2009; March 16, 2009; San Antonio Express News | The Honorable Nelson W. Wolff, Bexar County Judge, 100 Dolorosa Street, Suite 120, San Antonio, TX 78205 | July 14, 2009 | 480035
Bexar (FEMA Docket No: B-1052) | City of San Antonio (08-06-1717P) | March 9, 2009; March 16, 2009; San Antonio Express News | The Honorable Phil Hardberger, Mayor, City of San Antonio, P.O. Box 839966, San Antonio, TX 78283 | July 14, 2009 | 480045
Bexar (FEMA Docket No: B-1052) | City of San Antonio (08-06-3192P) | March 9, 2009; March 16, 2009; San Antonio Express News | The Honorable Phil Hardberger, Mayor, City of San Antonio, P.O. Box 839966, San Antonio, TX 78283 | July 14, 2009 | 480045
Bexar (FEMA Docket No: B-1052) | City of San Antonio (09-06-0610P) | April 3, 2009; April 10, 2009; San Antonio Express News | The Honorable Phil Hardberger, Mayor, City of San Antonio, P.O. Box 839966, San Antonio, TX 78283 | March 24, 2009 | 480045
Dallas (FEMA Docket No: B-1052) | City of Dallas (09-06-0918P) | April 8, 2009; April 15, 2009; Dallas Morning News | The Honorable Tom Leppert, Mayor, City of Dallas, 1500 Marilla Street, Room 5EN, Dallas, TX 75201 | August 13, 2009 | 480171
Dallas (FEMA Docket No: B-1052) | City of Farmers Branch (08-06-0532P) | April 10, 2009; April 17, 2009; Dallas Morning News | The Honorable Tim O'Hare, Mayor, City of Farmers Branch, P.O. Box 819010, Farmers Branch, TX 75381 | August 17, 2009 | 480174
Dallas (FEMA Docket No: B-1052) | City of Garland (09-06-0830P) | April 10, 2009; April 17, 2009; Dallas Morning News | The Honorable Ronald E. Jones, Mayor, City of Garland, P. O. Box 469002, Garland, TX 75046 | August 17, 2009 | 485471
Hays (FEMA Docket No: B-1052) | Unincorporated areas of Hays County (08-06-2257P) | March 25, 2009; April 1, 2009; San Marcos Daily Record | The Honorable Elizabeth Sumter, Judge, Hays County, 111 East San Antonio Street, Suite 300, San Marcos, TX 78666 | July 30, 2009 | 480321
Hays (FEMA Docket No: B-1052) | City of San Marcos (08-06-2257P) | March 25, 2009; April 1, 2009; San Marcos Daily Record | The Honorable Susan Narvaiz, Mayor, City of San Marcos, 630 East Hopkins Street, San Marcos, TX 78666 | July 30, 2009 | 485505
Hunt (FEMA Docket No: B-1055) | Unincorporated areas of Hunt County (08-06-1912P) | April 22, 2009; April 29, 2009; Herald Banner | The Honorable John Horn, Hunt County Judge, P.O. Box 1097, Greenville, TX 75403 | April 10, 2009 | 480363
Kendall (FEMA Docket No: B-1052) | City of Boerne (08-06-3123P) | March 13, 2009; March 20, 2009; The Boerne Star | The Honorable Dan Heckler, Mayor, City of Boerne, P.O. Box 1677, Boerne, TX 78006 | July 20, 2009 | 480418
Tarrant (FEMA Docket No: B-1055) | City of Arlington (09-06-0207P) | March 30, 2009; April 6, 2009; Star Telegram | The Honorable Robert N. Cluck, Mayor, City of Arlington, 101 West Abram Street, Arlington, TX 76004 | August 4, 2009 | 485454
Tarrant (FEMA Docket No: B-1055) | City of Fort Worth (08-06-1200P) | April 7, 2009; April 14, 2009; Star Telegram | The Honorable Michael J. Moncrief, Mayor, City of Fort Worth, 1000 Throckmorton Street, Fort Worth, TX 76102 | March 27, 2009 | 480596
Williamson (FEMA Docket No: B-1052) | City of Round Rock (09-06-1098P) | April 2, 2009; April 9, 2009; Round Rock Leader | The Honorable Alan McGraw, Mayor, City of Round Rock, 221 East Main Street, Round Rock, TX 78664 | August 7, 2009 | 481048
Williamson (FEMA Docket No: B-1052) | Unincorporated areas of Williamson County (09-06-1098P) | April 2, 2009; April 9, 2009; Round Rock Leader | The Honorable Dan A. Gattis Williamson, County Judge, 710 Main Street, Suite 101, Georgetown, TX 78626 | August 7, 2009 | 481079
Virginia:
Albemarle (FEMA Docket No: B-1052) | Unincorporated areas of Albemarle County (08-03-1578P) | April 8, 2009; April 15, 2009; The Daily Progress | The Honorable David Slutzky, Chairman, Albemarle County Board of Supervisors, 401 McIntire Road, Charlottesville, VA 22902 | August 13, 2009 | 510006
Fauquier (FEMA Docket No: B-1052) | Unincorporated areas of Fauquier County (09-03-0367P) | April 9, 2009; April 16, 2009; Fauquier Times Democrat | The Honorable R. Holder Trumbo, Jr., Chairman, Fauquier County, 10 Hotel Street, Suite 208, Warrenton, VA 20186 | August 14, 2009 | 510055
Henrico (FEMA Docket No: B-1046) | Unincorporated areas of Henrico County (09-03-0224P) | March 12, 2009; March 19, 2009; Richmond Times Dispatch | The Honorable David A. Kaechele, Chairman, Board of Supervisors, Henrico County, P.O. Box 90775, Henrico, VA 23273 | July 17, 2009 | 510077
Washington: Pierce (FEMA Docket No: B-1052) | Town of Steilacoom (08-10-0544P) | April 13, 2009; April 20, 2009; The News Tribune | The Honorable Ron Lucas, Mayor, Town of Steilacoom, 1030 Roe Street, Steilacoom, WA 98388 | March 31, 2009 | 530146
Wisconsin: St. Croix (FEMA Docket No: B-1055) | Village of Baldwin (09-05-1751P) | April 28, 2009; May 5, 2009; The Baldwin Bulletin | The Honorable Donald McGee, President, Village of Baldwin, P.O. Box 97, Baldwin, WI 54002 | April 16, 2009 | 550380

(Catalog of Federal Domestic Assistance No. 97.022, “Flood Insurance.”)

Dated: March 3, 2010.
Sandra K. Knight,
Deputy Federal Insurance and Mitigation Administrator, Mitigation, Department of Homeland Security, Federal Emergency Management Agency.

[FR Doc. 2010-5398 Filed 3-11-10; 8:45 am]

BILLING CODE 9110-12-P